DEPARTMENT OF TRANSPORTATION

Federal Aviation Administration

14 CFR Part 97

[Docket No. 31136; Amdt. No. 3749]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective June 20, 2017. The compliance date for each SIAP, associated Takeoff Minimums, and ODP is specified in the amendatory provisions.

The incorporation by reference of certain publications listed in the regulations is approved by the Director of the Federal Register as of June 20, 2017.

ADDRESSES: Availability of matters incorporated by reference in the amendment is as follows:

For Examination

1. U.S. Department of Transportation, Docket Ops—M30, 1200 New Jersey Avenue SE., West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part § 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on May 19, 2017.
John S. Duncan,
Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 22 June 2017

Bethel, AK, Bethel, ILS Y OR LOC Y RWY 19R, Orig-D

Bethel, AK, Bethel, ILS Z OR LOC Z RWY 19R, Amdt 7E

Bethel, AK, Bethel, RNAV (GPS) RWY 1L, Amdt 1C

Bethel, AK, Bethel, RNAV (GPS) RWY 1R, Amdt 1

Bethel, AK, Bethel, RNAV (GPS) RWY 19L, Amdt 1

Bethel, AK, Bethel, RNAV (GPS) RWY 19R, Amdt 2D

Bethel, AK, Bethel, RNAV (GPS)-A, Amdt 1B

Bethel, AK, Bethel, Takeoff Minimums and Obstacle DP, Amdt 4

Bethel, AK, Bethel, VOR RWY 1L, Amdt 2C

Bishop, CA, Bishop, Takeoff Minimums and Obstacle DP, Amdt 4

Concord, CA, Buchanan Field, LDA RWY 19R, Amdt 8

Concord, CA, Buchanan Field, RNAV (GPS) RWY 19R, Amdt 1

Concord, CA, Buchanan Field, RNAV (GPS) Y RWY 19R, Amdt 1A, CANCELED

Concord, CA, Buchanan Field, VOR RWY 19R, Amdt 14

El Monte, CA, San Gabriel Valley, Takeoff Minimums and Obstacle DP, Amdt 6

Livermore, CA, Livermore Muni, LIVERMORE TWO, Graphic DP

Livermore, CA, Livermore Muni, Takeoff Minimums and Obstacle DP, Amdt 4

Oakdale, CA, Oakdale, RNAV (GPS) RWY 10, Amdt 2

Oakdale, CA, Oakdale, RNAV (GPS) RWY 28, Amdt 2

Oakdale, CA, Oakdale, VOR-A, Amdt 1

Willows, CA, Willows-Glenn County, RNAV (GPS) RWY 34, Orig-B

Willows, CA, Willows-Glenn County, Takeoff Minimums and Obstacle DP, Amdt 2

Willows, CA, Willows-Glenn County, VOR RWY 34, Orig

Willows, CA, Willows-Glenn County, VOR/DME RWY 34, Amdt 5A, CANCELED

Kremmling, CO, Mc Elroy Airfield, RNAV (GPS) RWY 27, Orig

Thomasville, GA, Thomasville Rgnl, ILS OR LOC RWY 22, Amdt 1

Thomasville, GA, Thomasville Rgnl, NDB RWY 22, Amdt 7

Thomasville, GA, Thomasville Rgnl, RNAV (GPS) RWY 22, Amdt 1

Thomasville, GA, Thomasville Rgnl, Takeoff Minimums and Obstacle DP, Amdt 2

Clarinda, IA, Schenck Field, Takeoff Minimums and Obstacle DP, Amdt 1A

Sheldon, IA, Sheldon Rgnl, RNAV (GPS) RWY 15, Amdt 1B

Sheldon, IA, Sheldon Rgnl, RNAV (GPS) RWY 33, Amdt 1B

Sheldon, IA, Sheldon Rgnl, Takeoff Minimums and Obstacle DP, Amdt 1

Mountain Home, ID, Mountain Home Muni, NDB RWY 28, Amdt 3A, CANCELED

Mountain Home, ID, Mountain Home Muni, RNAV (GPS) RWY 28, Amdt 1

Mountain Home, ID, Mountain Home Muni, Takeoff Minimums and Obstacle DP, Amdt 5

Chicago, IL, Chicago O'Hare Intl, ILS OR LOC RWY 4R, Amdt 7

Chicago, IL, Chicago O'Hare Intl, ILS OR LOC RWY 9L, ILS RWY 9L (SA CAT I), ILS RWY 9L (CAT II), ILS RWY 9L (CAT III), Amdt 4

Chicago, IL, Chicago O'Hare Intl, ILS OR LOC RWY 9R, Amdt 12

Chicago, IL, Chicago O'Hare Intl, ILS OR LOC RWY 10C, ILS RWY 10C (SA CAT I), ILS RWY 10C (CAT II), ILS RWY 10C (CAT III), Amdt 2

Chicago, IL, Chicago O'Hare Intl, ILS OR LOC RWY 10L, ILS RWY 10L (SA CAT I), ILS RWY 10L (CAT II), ILS RWY 10L (CAT III), Amdt 19

Chicago, IL, Chicago O'Hare Intl, ILS OR LOC RWY 22L, Amdt 6

Chicago, IL, Chicago O'Hare Intl, ILS OR LOC RWY 27L, ILS RWY 27L (SA CAT I), ILS RWY 27L (CAT II), ILS RWY 27L (CAT III), Amdt 31

Chicago, IL, Chicago O'Hare Intl, ILS OR LOC RWY 27R, ILS RWY 27R (SA CAT I), ILS RWY 27R (CAT II), ILS RWY 27R (CAT III), Amdt 4

Chicago, IL, Chicago O'Hare Intl, ILS OR LOC RWY 28C, ILS RWY 28C (SA CAT I), ILS RWY 28C (CAT II), ILS RWY 28C (CAT III), Amdt 2

Chicago, IL, Chicago O'Hare Intl, ILS OR LOC RWY 28R, ILS RWY 28R (SA CAT I), ILS RWY 28R (CAT II), ILS RWY 28R (CAT III), Amdt 18

Chicago, IL, Chicago O'Hare Intl, ILS PRM RWY 10C, ILS PRM RWY 10C (SA CAT I), ILS PRM RWY 10C (CAT II), ILS PRM RWY 10C (CAT III), (CLOSE PARALLEL), Amdt 1

Chicago, IL, Chicago O'Hare Intl, ILS PRM RWY 28C, ILS PRM RWY 28C (SA CAT I), ILS PRM RWY 28C (CAT II), ILS PRM RWY 28C (CAT III), (CLOSE PARALLEL), Amdt 1

Chicago, IL, Chicago O'Hare Intl, ILS PRM Y RWY 10R, (CLOSE PARALLEL), Orig-A

Chicago, IL, Chicago O'Hare Intl, ILS Y OR LOC Y RWY 10R, Orig-A

Chicago, IL, Chicago O'Hare Intl, ILS Z OR LOC Z RWY 10R, ILS Z RWY 10R (SA CAT I), ILS Z RWY 10R (CAT II), ILS Z RWY 10R (CAT III), Orig

Chicago, IL, Chicago O'Hare Intl, RNAV (GPS) RWY 22L, Amdt 2

Chicago, IL, Chicago O'Hare Intl, RNAV (GPS) PRM Y RWY 10R, (CLOSE PARALLEL), Orig-A

Chicago, IL, Chicago O'Hare Intl, RNAV (GPS) Y RWY 10R, Orig-A

Chicago, IL, Chicago O'Hare Intl, RNAV (GPS) Z RWY 10R, Orig

Fort Wayne, IN, Fort Wayne Intl, RADAR-1, Amdt 26A

Jackson, KY, Julian Carroll, Takeoff Minimums and Obstacle DP, Amdt 2

Bowie, MD, Freeway, Takeoff Minimums and Obstacle DP, Amdt 3

Rockland, ME, Knox County Rgnl, ILS OR LOC RWY 13, Amdt 2

Rockland, ME, Knox County Rgnl, RNAV (GPS) RWY 13, Orig

Charlotte, MI, Fitch H Beach, RNAV (GPS) RWY 21, Amdt 1

Charlotte, MI, Fitch H Beach, Takeoff Minimums and Obstacle DP, Amdt 3

Charlotte, MI, Fitch H Beach, VOR RWY 20, Amdt 11A, CANCELED

Winona, MN, Winona Muni-Max Conrad Fld, ILS Y OR LOC Y RWY 30, Orig-A

Winona, MN, Winona Muni-Max Conrad Fld, ILS Z OR LOC Z RWY 30, Orig-A

Winona, MN, Winona Muni-Max Conrad Fld, RNAV (GPS) RWY 12, Orig

Winona, MN, Winona Muni-Max Conrad Fld, RNAV (GPS) RWY 30, Amdt 2A

Winona, MN, Winona Muni-Max Conrad Fld, Takeoff Minimums and Obstacle DP, Amdt 5A

Asheboro, NC, Asheboro Rgnl, RNAV (GPS) RWY 3, Amdt 1

Asheboro, NC, Asheboro Rgnl, RNAV (GPS) RWY 21, Amdt 1

Gothenburg, NE., Gothenburg Muni, RNAV (GPS) RWY 3, Orig-B

Gothenburg, NE., Gothenburg Muni, RNAV (GPS) RWY 21, Orig-B

Gothenburg, NE., Gothenburg Muni, VOR-A, Amdt 3A

Santa Teresa, NM, Dona Ana County Intl Jetport, RNAV (GPS) RWY 10, Orig-B

Santa Teresa, NM, Dona Ana County Intl Jetport, Takeoff Minimums and Obstacle DP, Orig-B

Poughkeepsie, NY, Hudson Valley Rgnl, ILS OR LOC RWY 6, Amdt 6D

Poughkeepsie, NY, Hudson Valley Rgnl, RNAV (GPS) RWY 24, Orig-E

Poughkeepsie, NY, Hudson Valley Rgnl, VOR RWY 24, Amdt 4F

Poughkeepsie, NY, Hudson Valley Rgnl, VOR-A, Amdt 11E

Columbus, OH, John Glenn Columbus Intl Airport, ILS OR LOC RWY 10L, Amdt 19B

Columbus, OH, John Glenn Columbus Intl Airport, ILS OR LOC RWY 10R, ILS RWY 10R (SA CAT I), ILS RWY 10R (SA CAT II), Amdt 9C

Columbus, OH, John Glenn Columbus Intl Airport, ILS OR LOC RWY 28L, ILS RWY 28L (SA CAT I), ILS RWY 28L (CAT II), Amdt 30A

Columbus, OH, John Glenn Columbus Intl Airport, ILS OR LOC RWY 28R, Amdt 4B

Columbus, OH, John Glenn Columbus Intl Airport, RNAV (GPS) Y RWY 10L, Amdt 3B

Columbus, OH, John Glenn Columbus Intl Airport, RNAV (GPS) Y RWY 10R, Amdt 3B

Columbus, OH, John Glenn Columbus Intl Airport, RNAV (GPS) Y RWY 28L, Amdt 3B

Columbus, OH, John Glenn Columbus Intl Airport, RNAV (GPS) Y RWY 28R, Amdt 2B

Columbus, OH, John Glenn Columbus Intl Airport, RNAV (RNP) Z RWY 10L, Amdt 1B

Columbus, OH, John Glenn Columbus Intl Airport, RNAV (RNP) Z RWY 10R, Amdt 1B

Columbus, OH, John Glenn Columbus Intl Airport, RNAV (RNP) Z RWY 28L, Amdt 1B

Columbus, OH, John Glenn Columbus Intl Airport, RNAV (RNP) Z RWY 28R, Amdt 1B

Perry, OK, Perry Muni, RNAV (GPS) RWY 35, Orig

Williamsport, PA, Williamsport Rgnl, ILS OR LOC RWY 27, Amdt 17

Williamsport, PA, Williamsport Rgnl, RNAV (GPS) RWY 27, Orig

Williamsport, PA, Williamsport Rgnl, Takeoff Minimums and Obstacle DP, Amdt 6

Bay City, TX, Bay City Rgnl, RNAV (GPS) RWY 13, Orig-B

Bay City, TX, Bay City Rgnl, RNAV (GPS) RWY 31, Orig-B

Bay City, TX, Bay City Rgnl, VOR-A, Amdt 4C

Midland, TX, Midland Intl Air and Space Port, RADAR-1, Amdt 7

Nacogdoches, TX, Nacogdoches A L Mangham Jr Rgnl, ILS OR LOC RWY 36, Amdt 3E

Nacogdoches, TX, Nacogdoches A L Mangham Jr Rgnl, NDB RWY 18, Amdt 1C

Nacogdoches, TX, Nacogdoches A L Mangham Jr Rgnl, RNAV (GPS) RWY 18, Orig-A

Nacogdoches, TX, Nacogdoches A L Mangham Jr Rgnl, RNAV (GPS) RWY 36, Orig-B

Nacogdoches, TX, Nacogdoches A L Mangham Jr Rgnl, Takeoff Minimums and Obstacle DP, Amdt 2A Emporia, VA, Emporia-Greensville Rgnl, RNAV (GPS) RWY 16, Amdt 2

Emporia, VA, Emporia-Greensville Rgnl, RNAV (GPS) RWY 34, Amdt 2

Morrisville, VT, Morrisville-Stowe State, RNAV (GPS) Y RWY 19, Amdt 2

Morrisville, VT, Morrisville-Stowe State, RNAV (GPS) Z RWY 19, Amdt 2

Marshfield, WI, Marshfield Muni, NDB RWY 16, Amdt 11

Marshfield, WI, Marshfield Muni, RNAV (GPS) RWY 16, Amdt 1

Marshfield, WI, Marshfield Muni, SDF RWY 34, Amdt 7

Wisconsin Rapids, WI, Alexander Field South Wood County, NDB RWY 2, Amdt 6A, CANCELED

Wisconsin Rapids, WI, Alexander Field South Wood County, RNAV (GPS) RWY 20, Amdt 1

Wisconsin Rapids, WI, Alexander Field South Wood County, SDF RWY 2, Amdt 5A, CANCELED

Rescinded: On May 5, 2017 (82 FR 21114), the FAA published an Amendment in Docket No. 31130, Amdt No. 3743 to Part 97 of the Federal Aviation Regulations under section 97.27 and 97.33, the following entries for Colorado City, AZ and Mosinee, WI, effective June 22, 2017, and are hereby rescinded in their entirety:

Colorado City, AZ, Colorado City Muni, NDB-A, Amdt 1

Colorado City, AZ, Colorado City Muni, RNAV (GPS) RWY 11, Orig

Colorado City, AZ, Colorado City Muni, RNAV (GPS) RWY 29, Orig

Mosinee, WI, Central Wisconsin, RNAV (GPS) RWY 8, Amdt 1C

Mosinee, WI, Central Wisconsin, RNAV (GPS) RWY 26, Amdt 1C

Mosinee, WI, Central Wisconsin, RNAV (GPS) RWY 35, Amdt 2

[FR Doc. 2017-12462 Filed 6-19-17; 8:45 am]

BILLING CODE 4910-13-P